DEPARTMENT OF THE INTERIOR

Bureau of Ocean Energy Management

Gulf of Mexico, Outer Continental Shelf (OCS), Western Planning Area (WPA), Oil and Gas Lease Sale 229

AGENCY: Bureau of Ocean Energy Management (BOEM), Interior.

ACTION: Notice of Availability (NOA) of a Record of Decision (ROD) for WPA Lease Sale 229 in the Gulf of Mexico OCS Oil and Gas Lease Sales: 2012-2017 Western Planning Area Lease Sales 229, 233, 238, 246, and 248, and Central Planning Area Lease Sales 227, 231, 235, 241, and 247 Final Environmental Impact Statement (Multisale FEIS).

Authority: This NOA is published pursuant to the regulations (40 CFR 1506) implementing the provisions of the National Environmental Policy Act (NEPA) of 1969, as amended (42 U.S.C. 4321 et seq. (1988)).

SUMMARY: BOEM has prepared a ROD for oil and gas WPA Lease Sale 229 scheduled for November 28, 2012. WPA Lease Sale 229 is the first WPA lease sale in the 2012-2017 OCS Oil and Gas Leasing Program. The proposed lease sale is in the Gulf of Mexico's WPA off the States of Texas and Louisiana. In making its decision, BOEM considered alternatives to the proposed action and the potential impacts as presented in the Multisale FEIS and all comments received throughout the NEPA process. The Multisale FEIS evaluated the environmental and socioeconomic impacts for WPA Lease Sale 229.

SUPPLEMENTARY INFORMATION: In the Multisale FEIS, BOEM evaluated three alternatives, which are summarized below:

Alternative A—The Proposed Action: This is BOEM's preferred alternative identified in the Multisale FEIS. This alternative would offer for lease all unleased blocks within the WPA for oil and gas operations, with the following exceptions:

(1) Whole and partial blocks within the boundary of the Flower Garden Banks National Marine Sanctuary (i.e., the boundary as of the publication date of the Multisale FEIS); and

(2) whole and partial blocks that lie within the 1.4 nautical mile buffer zone north of the maritime boundary between the United States and Mexico.

The proposed WPA lease sale area encompasses virtually all of the WPA's 28.58 million acres. As of August 2012, approximately 20.8 million acres of the WPA lease sale area are currently unleased. The estimated amount of resources projected to be developed as a result of proposed WPA Lease Sale 229 is 0.116-0.200 BBO and 0.538-0.938 Tcf of gas.

Alternative B—The Proposed Action Excluding the Unleased Blocks Near Biologically Sensitive Topographic Features: This alternative would offer for lease all unleased blocks in the WPA, as described for the proposed action (Alternative A), with the exception of any unleased blocks subject to the Topographic Features Stipulation.

Alternative C—No Action: This alternative would cancel the proposed WPA Lease Sale 229 and is identified as the environmentally preferred alternative.

After careful consideration, BOEM has selected the proposed action, identified as BOEM's preferred alternative (Alternative A) in the Multisale FEIS. BOEM's selection of the preferred alternative reflects an orderly resource development with protection of the human, marine, and coastal environments, while also ensuring that the public receives an equitable return for these resources and that free-market competition is maintained.

Record of Decision Availability: To obtain a single printed or CD-ROM copy of the ROD for proposed WPA Lease Sale 229, you may contact the BOEM, Gulf of Mexico OCS Region, Public Information Office (GM 250I), 1201 Elmwood Park Boulevard, New Orleans, Louisiana 70123-2394 (1-800-200-GULF). An electronic copy of the ROD is available on BOEM's Internet Web site at http://boem.gov/Environmental-Stewardship/Environmental-Assessment/NEPA/nepaprocess.aspx.

FOR FURTHER INFORMATION CONTACT: For more information on the ROD, you may contact Mr. Gary D. Goeke, Bureau of Ocean Energy Management, Gulf of Mexico OCS Region, 1201 Elmwood Park Boulevard (GM 623E), New Orleans, Louisiana 70123-2394. You may also contact Mr. Goeke by telephone at (504) 736-3233.

Dated: November 8, 2012.
Tommy P. Beaudreau,
Director, Bureau of Ocean Energy Management.

[FR Doc. 2012-27755 Filed 11-14-12; 8:45 am]

BILLING CODE 4310-MR-P